DEPARTMENT OF TRANSPORTATION

Federal Aviation Administration

14 CFR Part 39

[Docket No. FAA-2004-19532; Directorate Identifier 2004-NM-87-AD]

RIN 2120-AA64

Airworthiness Directives; Boeing Model 747-100, 747-100B, 747-200B, 747-300, 747-400, 747-400D, 747SR, and 747SP Series Airplanes

AGENCY: Federal Aviation Administration (FAA), DOT.

ACTION: Notice of proposed rulemaking (NPRM).

SUMMARY: The FAA proposes to adopt a new airworthiness directive (AD) for certain Boeing Model 747-100, 747-100B, 747-200B, 747-300, 747-400, 747-400D, 747SR, and 747SP series airplanes. This proposed AD would require replacing or modifying the control panels for the galley cart lift and modifying related electrical cable assemblies, as applicable. This proposed AD is prompted by reports of injuries to catering personnel and flight attendants who were loading or unloading galley carts on one deck when the galley cart lift unexpectedly moved when it was activated from the other deck. We are proposing this AD to ensure that the galley cart lift can be sent only from the deck on which it is in use, which will prevent unexpected movement of the cart lift that could result in possible injury to catering personnel or flight attendants.

DATES: We must receive comments on this proposed AD by December 20, 2004.

ADDRESSES: Use one of the following addresses to submit comments on this proposed AD.

• DOT Docket Web Site: Go to http://dms.dot.gov and follow the instructions for sending your comments electronically.

• Government-wide Rulemaking Web Site: Go to http://www.regulations.gov and follow the instructions for sending your comments electronically.

• Mail: Docket Management Facility, U.S. Department of Transportation, 400 Seventh Street SW., Nassif Building, room PL-401, Washington, DC 20590.

• By Fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, P.O. Box 3707, Seattle, Washington 98124-2207.

You can examine the contents of this AD docket on the Internet at http://dms.dot.gov, or in person at the Docket Management Facility, U.S. Department of Transportation, 400 Seventh Street SW., room PL-401, on the plaza level of the Nassif Building, Washington, DC. This docket number is FAA-2004-19532; the directorate identifier for this docket is 2004-NM-87-AD.

FOR FURTHER INFORMATION CONTACT: Technical Information: Donald Wren, Aerospace Engineer, Cabin Safety and Environmental Systems Branch, ANM-150S, FAA, Seattle Aircraft Certification Office, 1601 Lind Avenue, SW., Renton, Washington 98055-4056; telephone (425) 917-6451; fax (425) 917-6590.

Plain Language Information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2004-19532; Directorate Identifier 2004-NM-87-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received reports of injuries to catering personnel and flight attendants who were loading or unloading galley carts on one deck when the galley cart lift unexpectedly moved when it was activated from the other deck. These incidents occurred on several Boeing Model 747-100, 747-200B, and 747-400 series airplanes. Investigation revealed that the cause of these incidents was a safety interlock switch in the cart lift door that had been disabled or had malfunctioned. This condition, if not corrected, could allow unexpected movement of the galley cart lift that could result in possible injury to catering personnel or flight attendants.

The galley cart lift installations on certain Model 747-100, 747-200B, and 747-400 series airplanes are identical to those installed on certain Model 747-100B, 747-300, 747-400D, 747SR, and 747SP series airplanes. Therefore, all of these models may be subject to the identified unsafe condition.

Relevant Service Information

We have reviewed Boeing Alert Service Bulletin 747-25A3187, Revision 2, dated January 27, 2000, which describes procedures for replacing the main and upper deck control panels for the galley cart lift with new or modified control panels and accomplishing a functional test of the cart lift system.

We have also reviewed Service Bulletin 747-25A3287, Revision 2, dated September 4, 2003, which describes procedures for modifying the main and upper deck control panels and related electrical cable assemblies for the galley cart lift and accomplishing a functional test of the cart lift system.

Accomplishing the actions specified in the service information is intended to adequately address the unsafe condition.

FAA's Determination and Requirements of the Proposed AD

We have evaluated all pertinent information and identified an unsafe condition that is likely to exist or develop on other airplanes of this same type design. Therefore, we are proposing this AD, which would require accomplishing the actions specified in the service information described previously, except as discussed under “Difference Between the Proposed AD and Service Information.”

Difference Between the Proposed AD and Service Information

Boeing Alert Service Bulletin 747-25A3287, Revision 2, recommends accomplishing the actions “as soon as manpower, materials and facilities are available;” Service Bulletin 747-25A3187, Revision 2, states that “no compliance time is given.” However, we have determined that these imprecise compliance times would not address the identified unsafe condition in a timely manner. In developing an appropriate compliance time for this AD, we considered not only the manufacturer's recommendation, but also the degree of urgency associated with addressing the subject unsafe condition, the average utilization of the affected fleet, and the time necessary to perform the modifications. In light of all of these factors, we find a compliance time of 18 months for completing the required actions to be warranted, in that it represents an appropriate interval of time for affected airplanes to continue to operate without compromising safety.

Costs of Compliance

There are about 600 airplanes of the affected design worldwide. This proposed AD would affect about 66 airplanes of U.S. registry.

About 22 Model 747-100, 747-100B, 747-200B, 747-300, 747SR, and 747SP series airplanes of U.S. registry would be affected by the proposed actions. It would take about 7 work hours per airplane to do the proposed actions, at an average labor rate of $65 per work hour. Required parts would cost about $143 per airplane. Based on these figures, the estimated cost of the proposed AD for U.S. operators is $13,156, or $598 per airplane.

About 44 Model 747-400 and 747-400D series airplanes of U.S. registry would be affected by the proposed actions. It would take about 2 work hours per airplane to do the proposed actions, at an average labor rate of $65 per work hour. Required parts would cost about $4,934 per airplane. Based on these figures, the estimated cost of the proposed AD for U.S. operators is $222,816, or $5,064 per airplane.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2004-19532; Directorate Identifier 2004-NM-87-AD.

Comments Due Date

(a) The Federal Aviation Administration (FAA) must receive comments on this AD action by December 20, 2004.

Affected ADs

(b) None.

Applicability: (c) This AD applies to certain Model 747-100, 747-100B, 747-200B, 747-300, 747SR, and 747SP series airplanes, as listed in Boeing Alert Service Bulletin 747-25A3287, Revision 2, dated September 4, 2003; and Model 747-400 and 747-400D series airplanes, as listed in Boeing Service Bulletin 747-25A3187, Revision 2, dated January 27, 2000; certificated in any category.

Unsafe Condition

(d) This AD was prompted by reports of injuries to catering personnel and flight attendants who were loading or unloading galley carts on one deck when the galley cart lift unexpectedly moved when it was activated from the other deck. We are issuing this AD to prevent unexpected movement of the galley cart lift that could result in possible injury to catering personnel or flight attendants.

Compliance: (e) You are responsible for having the actions required by this AD performed within the compliance times specified, unless the actions have already been done.

Replacement/Modification of Control Panel

(f) Within 18 months after the effective date of this AD, accomplish the actions required by paragraph (f)(1) or (f)(2) of this AD, as applicable.

(1) For Model 747-400 and 747-400D series airplanes: Replace the main and upper deck control panels for the galley cart lift with new or modified control panels by doing all the actions specified in Boeing Service Bulletin 747-25A3187, Revision 2, dated January 27, 2000.

(2) For Model 747-100, 747-100B, 747-200B, 747-300, 747SR, and 747SP series airplanes: Modify the main and upper deck control panels and related cable assemblies for the galley cart lift by doing all the actions specified in Boeing Alert Service Bulletin 747-25A3287, Revision 2, dated September 4, 2003.

Actions Accomplished Per Previous Issue of Service Bulletin

(g) Actions accomplished before the effective date of this AD in accordance with Boeing Alert Service Bulletin 747-25A3287, dated October 25, 2001, or Revision 1, dated April 25, 2002; or in accordance with Boeing Service Bulletin 747-25A3187, dated April 29, 1999, or Revision 1, dated September 23, 1999; are considered acceptable for compliance with the corresponding actions specified in paragraph (f) of this AD.

Alternative Methods of Compliance (AMOCs)

(h) The Manager, Seattle Aircraft Certification Office (ACO), FAA, has the authority to approve AMOCs for this AD, if requested in accordance with the procedures found in 14 CFR 39.19.

Issued in Renton, Washington, on October 26, 2004.
Ali Bahrami,
Manager, Transport Airplane Directorate, Aircraft Certification Service.

[FR Doc. 04-24720 Filed 11-4-04; 8:45 am]

BILLING CODE 4910-13-P